DEPARTMENT OF ENERGY

Federal Energy Regulatory Commission

Combined Notice of Filings #1

Take notice that the Commission received the following electric corporate filings:

Docket Numbers: EC22-24-000.

Applicants: GridLiance High Plains LLC.

Description: Application for Authorization Under Section 203 of the Federal Power Act of GridLiance High Plains LLC.

Filed Date: 12/10/21.

Accession Number: 20211210-5245.

Comment Date: 5 p.m. ET 1/3/22.

Take notice that the Commission received the following electric rate filings:

Docket Numbers: ER10-1841-023; ER10-1852-053; ER10-1907-022; ER10-1918-023; ER10-1950-023; ER10-1970-022; ER10-1972-022; ER10-2005-023; ER10-2078-023; ER11-26-023; ER11-4462-055; ER12-1660-022; ER13-2458-017; ER13-2461-017; ER16-1872-013; ER16-2506-014; ER17-838-030; ER17-2270-014; ER18-1771-012; ER18-2224-013; ER18-2246-012; ER19-987-010; ER19-1003-010; ER19-1393-010; ER19-1394-010; ER19-2373-006; ER19-2382-006; ER19-2398-008; ER19-2437-006; ER19-2461-006; ER20-122-004; ER20-1220-004; ER20-1769-004; ER20-1879-005; ER20-1987-005; ER20-2690-004; ER21-1320-001; ER21-1953-001; ER21-2048-001; ER21-2100-001.

Applicants: Point Beach Solar, LLC, Sac County Wind, LLC, Heartland Divide Wind II, LLC, Crystal Lake Wind Energy III, LLC, Jordan Creek Wind Farm LLC, Cerro Gordo Wind, LLC, Oliver Wind I, LLC, Chicot Solar, LLC, Oliver Wind II, LLC, Crowned Ridge Interconnection, LLC, Crowned Ridge Wind, LLC, Emmons-Logan Wind, LLC, Hancock County Wind, LLC, Story County Wind, LLC, Ashtabula Wind I, LLC, Endeavor Wind II, LLC, Endeavor Wind I, LLC, Crystal Lake Wind Energy II, LLC, Crystal Lake Wind Energy I, LLC, Heartland Divide Wind Project, LLC, Pegasus Wind, LLC, Langdon Renewables, LLC, Stuttgart Solar, LLC, NextEra Energy Marketing, LLC, Oliver Wind III, LLC, Marshall Solar, LLC, Pheasant Run Wind, LLC, Tuscola Wind II, LLC, Tuscola Bay Wind, LLC, NEPM II, LLC, Ashtabula Wind III, LLC, White Oak Energy LLC, Ashtabula Wind II, LLC, NextEra Energy Point Beach, LLC, NextEra Energy Duane Arnold, LLC, Garden Wind, LLC, FPL Energy North Dakota Wind II, LLC, Otay Mesa Energy Center, LLC, Florida Power & Light Company, Butler Ridge Wind Energy Center, LLC.

Description: Triennial Market Power Analysis for Central Region of Butler Ridge Wind Energy Center, LLC, et al.

Filed Date: 12/10/21.

Accession Number: 20211210-5247.

Comment Date: 5 p.m. ET 2/8/22.

Docket Numbers: ER20-1581-001.

Applicants: Midcontinent Independent System Operator, Inc., Republic Transmission, LLC.

Description: Compliance filing: Midcontinent Independent System Operator, Inc. submits tariff filing per 35: 2021-12-16_Republic Order 864 Compliance Amendment Filing to be effective 6/12/2020.

Filed Date: 12/16/21.

Accession Number: 20211216-5072.

Comment Date: 5 p.m. ET 1/6/22.

Docket Numbers: ER21-1065-003.

Applicants: TransCanyon Western Development, LLC.

Description: Compliance filing: TransCanyon Formula Rate Compliance Filing to be effective 4/7/2021.

Filed Date: 12/16/21.

Accession Number: 20211216-5186.

Comment Date: 5 p.m. ET 1/6/22.

Docket Numbers: ER21-2348-000.

Applicants: Midcontinent Independent System Operator, Inc., Michigan Public Power Agency.

Description: Refund Report of Midcontinent Independent System Operator, Inc.

Filed Date: 12/16/21.

Accession Number: 20211216-5105.

Comment Date: 5 p.m. ET 1/6/22.

Docket Numbers: ER22-337-000.

Applicants: Bio Energy (Ohio II), LLC.

Description: Supplement to November 4, 2021 Bio Energy (Ohio II), LLC tariff filing per 35.12: Application to be effective 11/5/2021.

Filed Date: 12/15/21.

Accession Number: 20211215-5303.

Comment Date: 5 p.m. ET 12/27/21.

Docket Numbers: ER22-660-000.

Applicants: PJM Interconnection, L.L.C.

Description: § 205(d) Rate Filing: Original ISA/CSA, Service Agreement Nos. 6235/6236; Queue No. AE2-342 to be effective 11/15/2021.

Filed Date: 12/15/21.

Accession Number: 20211215-5237.

Comment Date: 5 p.m. ET 1/5/22.

Docket Numbers: ER22-661-000.

Applicants: Midcontinent Independent System Operator, Inc.

Description: § 205(d) Rate Filing: 2021-12-15_Attachment X GIP Timeline Reduction Filing to be effective 3/15/2022.

Filed Date: 12/15/21.

Accession Number: 20211215-5260.

Comment Date: 5 p.m. ET 1/14/22.

Docket Numbers: ER22-662-000.

Applicants: Southwest Power Pool, Inc.

Description: § 205(d) Rate Filing: 1518R22 Arkansas Electric Cooperative Corp NITSA NOA to be effective 12/1/2021.

Filed Date: 12/15/21.

Accession Number: 20211215-5269.

Comment Date: 5 p.m. ET 1/5/22.

Docket Numbers: ER22-663-000.

Applicants: PJM Interconnection, L.L.C.

Description: § 205(d) Rate Filing: Amendment to ISA and ICSA, SA Nos. 4492 and 4494; Queue No. AA2-060 to be effective 6/30/2016.

Filed Date: 12/16/21.

Accession Number: 20211216-5045.

Comment Date: 5 p.m. ET 1/6/22.

Docket Numbers: ER22-664-000.

Applicants: Power Supply Partners, LLC.

Description: Notice of Cancellation of Market Based Rate Tariff of Power Supply Partners, LLC.

Filed Date: 12/14/21.

Accession Number: 20211214-5281.

Comment Date: 5 p.m. ET 1/4/22.

Docket Numbers: ER22-665-000.

Applicants: Southwest Power Pool, Inc.

Description: § 205(d) Rate Filing: Attachment AE Revisions to Clarify Auction Revenue Rights Allocation Process to be effective 2/16/2022.

Filed Date: 12/16/21.

Accession Number: 20211216-5069.

Comment Date: 5 p.m. ET 1/6/22.

Docket Numbers: ER22-666-000.

Applicants: PJM Interconnection, L.L.C.

Description: § 205(d) Rate Filing: Amendment to ISA and ICSA, SA Nos. 4501 and 4502; Queue No. AA2-061 to be effective 7/1/2016.

Filed Date: 12/16/21.

Accession Number: 20211216-5075.

Comment Date: 5 p.m. ET 1/6/22.

Docket Numbers: ER22-668-000.

Applicants: Duke Energy Progress, LLC.

Description: § 205(d) Rate Filing: DEP-NCEMPA—Revisions to Rate Schedule No. 200 to be effective 3/1/2022.

Filed Date: 12/16/21.

Accession Number: 20211216-5125.

Comment Date: 5 p.m. ET 1/6/22.

Docket Numbers: ER22-669-000.

Applicants: American Electric Power Service Corporation, Ohio Power Company, PJM Interconnection, L.L.C.

Description: § 205(d) Rate Filing: American Electric Power Service Corporation submits tariff filing per 35.13(a)(2)(iii: AEP submits one Facilities Agreement re: ILDSA, SA No. 1336 to be effective 2/15/2022.

Filed Date: 12/16/21.

Accession Number: 20211216-5140.

Comment Date: 5 p.m. ET 1/6/22.

Docket Numbers: ER22-670-000.

Applicants: Public Service Company of Colorado.

Description: § 205(d) Rate Filing: 2021-12-16 PSCo Concurrence to SPP Emergency Energy—ER22-651 to be effective 2/14/2022.

Filed Date: 12/16/21.

Accession Number: 20211216-5172.

Comment Date: 5 p.m. ET 1/6/22.

Docket Numbers: ER22-671-000.

Applicants: Pattern Energy Group LP, SunZia Transmission, LLC.

Description: Application for Confirmation of Negotiated Rate Authority to Accommodate Anticipated Change in Upstream Ownership, et al. of SunZia Transmission, LLC.

Filed Date: 12/14/21.

Accession Number: 20211214-5282.

Comment Date: 5 p.m. ET 1/4/22.

Docket Numbers: ER22-672-000.

Applicants: PJM Interconnection, L.L.C.

Description: § 205(d) Rate Filing: Original Interim ISA, Service Agreement No. 6252; Queue AF1-063/AF2-127 to be effective 11/16/2021.

Filed Date: 12/16/21.

Accession Number: 20211216-5194.

Comment Date: 5 p.m. ET 1/6/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 16, 2021.
Debbie-Anne A. Reese,
Deputy Secretary.

[FR Doc. 2021-27739 Filed 12-21-21; 8:45 am]

BILLING CODE 6717-01-P